DEPARTMENT OF TRANSPORTATION

Federal Aviation Administration

14 CFR Part 39

[Docket No. 2003-NM-37-AD; Amendment 39-13723; AD 2004-14-14]

RIN 2120-AA64

Airworthiness Directives; Israel Aircraft Industries, Ltd., Model 1121, 1121A, 1121B, 1123, 1124, and 1124A Series Airplanes

AGENCY: Federal Aviation Administration, DOT.

ACTION: Final rule.

SUMMARY: This amendment adopts a new airworthiness directive (AD), applicable to all Israel Aircraft Industries, Ltd., Model 1121, 1121A, 1121B, 1123, 1124, and 1124A series airplanes, that requires a one-time inspection to detect cracking and other discrepancies of both sides of the rudder skins and ribs, forward to aft on each spar, to detect cracks below the skin surface; and corrective action if necessary. This action is necessary to detect and correct cracking of the skins of the rudder assembly, which could result in reduced structural capability of the rudder and reduced controllability of the airplane. This action is intended to address the identified unsafe condition.

DATES: Effective August 13, 2004.

The incorporation by reference of certain publications listed in the regulations is approved by the Director of the Federal Register as of August 13, 2004.

ADDRESSES: The service information referenced in this AD may be obtained from Gulfstream Aerospace Corporation, P.O. Box 2206, Mail Station D25, Savannah, Georgia 31402. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Israel Aircraft Industries, Ltd., Model 1121, 1121A, 1121B, 1123, 1124, and 1124A series airplanes was published in the Federal Register on May 7, 2004 (69 FR 25517). That action proposed to require a one-time inspection to detect cracking and other discrepancies of both sides of the rudder skins and ribs, forward to aft on each spar, to detect cracks below the skin surface; and corrective action if necessary.

Comments

We provided the public the opportunity to participate in the development of this AD. No comments have been submitted on the proposed AD or on the determination of the cost to the public.

Conclusion

We have carefully reviewed the available data and determined that air safety and the public interest require adopting the AD as proposed.

Cost Impact

This AD will affect about 300 airplanes of U.S. registry. It will take about 3 work hours per airplane to do the required actions, at an average labor rate of $65 per work hour. Based on these figures, the cost impact of the AD on U.S. operators is estimated to be $58,500, or $195 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-14 Israel Aircraft Industries, LTD: Amendment 39-13723. Docket 2003-NM-37-AD.

Applicability: All Model 1121, 1121A, 1121B, 1123, 1124, and 1124A series airplanes; certificated in any category.

Compliance: Required as indicated, unless accomplished previously.

To detect and correct cracking of the skins of the rudder assembly, which could result in reduced structural capability of the rudder and reduced controllability of the airplane, accomplish the following:

Inspections

(a) Within 50 flight hours after the effective date of this AD, do detailed and x-ray inspections to detect discrepancies (including cracking, loose rivets, and distorted rivet heads) of both sides of the rudder skins and ribs, forward to aft on each spar, in accordance with the applicable service bulletin identified in Table 1 of this AD. Although the service bulletin referenced in this AD specifies to submit certain information to the manufacturer, this AD does not include such a requirement.

Table 1.—Service Information Reference
For— | Inspect in accordance with—
Model 1121, 1121A, and 1121B series airplanes | 1121 Commodore Jet (Israel Aircraft Industries) Service Bulletin 1121-55-030, Revision 1, dated June 23, 2003.
Model 1123 series airplanes | 1123—Westwind (Israel Aircraft Industries) Service Bulletin 1123-55-056, Revision 1, dated June 23, 2003.
Model 1124 and 1124A series airplanes | 1124—Westwind (Israel Aircraft Industries) Service Bulletin 1124-55-150, Revision 1, dated June 23, 2003.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(b) If any discrepancy is found during any inspection required by paragraph (a) of this AD: Before further flight, repair it in accordance with a method approved by either the Manager, International Branch, ANM-116, FAA, Transport Airplane Directorate; or the Civil Aviation Administration of Israel (CAAI) (or its delegated agent).

Part Installation

(c) As of the effective date of this AD, no person may install a rudder on any airplane, unless the actions required by this AD have been accomplished.

Alternative Methods of Compliance

(d) In accordance with 14 CFR 39.19, the Manager, International Branch, ANM-116, Transport Airplane Directorate, FAA, is authorized to approve alternative methods of compliance for this AD.

Incorporation by Reference

(e) Unless otherwise specified in this AD, the actions must be done in accordance with the applicable service bulletin listed in Table 2 of this AD.

Table 2.—Service Bulletins Incorporated by Reference
Service bulletin | Revision level | Date
1121—Commodore Jet (Israel Aircraft Industries) Service Bulletin 1121-55-030 | 1 | June 23, 2003.
1123—Westwind (Israel Aircraft Industries) Service Bulletin 1123-55-056 | 1 | June 23, 2003
1124—Westwind (Israel Aircraft Industries) Service Bulletin 1124-55-150 | 1 | June 23, 2003

This incorporation by reference was approved by the Director of the Federal Register in accordance with 5 U.S.C. 552(a) and 1 CFR part 51. Copies may be obtained from Gulfstream Aerospace Corporation, P.O. Box 2206, Mail Station D25, Savannah, Georgia 31402. Copies may be inspected at the FAA, Transport Airplane Directorate, 1601 Lind Avenue, SW., Renton, Washington; or at the National Archives and Records Administration (NARA). For information on the availability of this material at NARA, call (202) 741-6030, or go to http://www.archives.gov/federal_register/code_of_federal_regulations/ibr_locations.html.

Note 2: The subject of this AD is addressed in Israeli airworthiness directive 55-02-12-04R1, dated December 10, 2003.

Effective Date

(f) This amendment becomes effective on August 13, 2004.

Issued in Renton, Washington, on June 30, 2004.
Kalene C. Yanamura,
Acting Manager, Transport Airplane Directorate, Aircraft Certification Service.

[FR Doc. 04-15510 Filed 7-8-04; 8:45 am]

BILLING CODE 4910-13-P